SMALL BUSINESS ADMINISTRATION

[Disaster Declaration #11154 and #11155]

Mississippi Disaster # MS-00014

AGENCY: U.S. Small Business Administration.

ACTION: Notice.

SUMMARY: This is a notice of an Administrative declaration of a disaster for the State of Mississippi dated 01/16/2008.

Incident: Severe Storms And Tornadoes.

Incident Period: 01/10/2008.

Effective Date: 01/16/2008.

Physical Loan Application Deadline Date: 03/17/2008.

Economic Injury (EIDL) Loan Application Deadline Date: 10/16/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's disaster declaration, applications for disaster loans may be filed at the address listed above or other locally announced locations.

The following areas have been determined to be adversely affected by the disaster:

Primary Counties:

Holmes and Lowndes.

Contiguous Counties:

Mississippi: Attala, Carroll, Clay, Humphreys, Leflore, Madison, Monroe, Noxubee, Oktibbeha, and Yazoo.

Alabama: Lamar and Pickens.

The Interest Rates are:

| Percent
Homeowners With Credit Available Elsewhere | 5.875
Homeowners Without Credit Available Elsewhere | 2.937
Businesses With Credit Available Elsewhere | 8.000
Businesses & Small Agricultural Cooperatives Without Credit Available Elsewhere | 4.000
Other (Including Non-Profit Organizations) With Credit Available Elsewhere | 5.250
Businesses And Non-Profit Organizations Without Credit Available Elsewhere | 4.000

The number assigned to this disaster for physical damage is 11154 C and for economic injury is 11155 0.

The States which received EIDL Declaration # are Mississippi and Alabama.

(Catalog of Federal Domestic Assistance Numbers 59002 and 59008)

Steven C. Preston,
Administrator.

[FR Doc. E8-1218 Filed 1-23-08; 8:45 am]

BILLING CODE 8025-01-P